DEPARTMENT OF DEFENSE

Office of the Secretary

[Docket ID DoD-2019-HA-0065]

Submission for OMB Review; Comment Request

AGENCY: Office of the Assistant Secretary of Defense for Health Affairs, DoD.

ACTION: 30-Day information collection notice.

SUMMARY: The Department of Defense has submitted to OMB for clearance the following proposal for collection of information under the provisions of the Paperwork Reduction Act.

DATES: Consideration will be given to all comments received by September 30, 2019.

ADDRESSES: Comments and recommendations on the proposed information collection should be emailed to Mr. Josh Brammer, DoD Desk Officer, at oira_submission@omb.eop.gov. Please identify the proposed information collection by DoD Desk Officer, Docket ID number, and title of the information collection.

FOR FURTHER INFORMATION CONTACT: Angela James, 571-372-7574, or whs.mc-alex.esd.mbx.dd-dod-information-collections@mail.mil.

SUPPLEMENTARY INFORMATION:

Title; Associated Form; and OMB Number: Federal Agency Retail Pharmacy Program; OMB Control Number 0720-0032.

Type of Request: Extension

Number of Respondents: 300.

Responses per Respondent: 4.

Annual Responses: 1,200.

Average Burden per Response: 8 hours.

Annual Burden Hours: 9,600.

Needs and Uses: The information collection requirement is necessary to obtain and record refund amounts between the DoD and pharmaceutical manufacturers. The DoD quarterly provides pharmaceutical manufacturers with itemized utilization data on covered drugs dispensed to TRICARE beneficiaries through TRICARE retail network pharmacies. These manufacturers validate the refund amounts calculated from the difference in price between the Federal Ceiling Prices and the direct commercial contract sales price. Once the refund amounts are validated, the pharmaceutical manufacturers directly pay the DHA Government account.

Affected Public: Business or other for-profit.

Frequency: Quarterly.

Respondent's Obligation: Voluntary.

OMB Desk Officer: Mr. Josh Brammer.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela James.

Requests for copies of the information collection proposal should be sent to Ms. James at whs.mc-alex.esd.mbx.dd-dod-information-collections@mail.mil.

Dated: August 23, 2019.
Aaron T. Siegel,
Alternate OSD Federal Register Liaison Officer, Department of Defense.

[FR Doc. 2019-18633 Filed 8-28-19; 8:45 am]

BILLING CODE 5001-06-P